DEPARTMENT OF LABOR

Mine Safety and Health Administration

Petitions for Modification

The following parties have filed petitions to modify the application of existing safety standards under section 101(c) of the Federal Mine Safety and Health Act of 1977.

1. The Sabine Mining Company

[Docket No. M-2004-012-C]

The Sabine Mining Company, 6501 Farm Road 968 West, Hallsville, Texas 75650-7413 has filed a petition to modify the application of 30 CFR 77.803 (Fail safe ground check circuits on high-voltage resistance grounded systems) to its South Hallsville No. 1 Mine (MSHA I.D. No. 41-03101) located in Harrison County, Texas. The petitioner requests a modification of the existing standard to allow an alternative method of compliance when the boom/mast is raised or lowered during necessary repairs. The petitioner states that during the procedure for raising and lowering the boom for construction/maintenance, the machine will not be performing mining operations. The procedure would also be applicable in instances of disassembly or major maintenance which require the boom to be raised or lowered. The petitioner further states that the procedures of raising and lowering the boom/mast during disassembly or major maintenance would be performed on an as needed basis; and training and review of the procedures would be conducted prior to each time it is needed since raising and lowering the boom is done infrequently with long intervals of time between each occurrence, and all persons involved in the process will be trained or retrained at that time. The petitioner has listed specific guidelines in this petition that would be followed to minimize the potential for electrical power loss during this critical boom procedure. The petitioner asserts that this procedure does not replace other mechanical precautions or the requirements of 30 CFR 77.405(b) that are necessary to safely secure boom/masts during construction or maintenance procedures and that its proposed alternative method would not result in a diminution of safety to the miners.

2. CONSOL of Kentucky, Inc.

[Docket No. M-2004-013-C]

CONSOL of Kentucky, Inc., 1800 Washington Road, Pittsburgh, Pennsylvania 15241-1421 has filed a petition to modify the application of 30 CFR 75.1101-8 (Water sprinkler systems; arrangement of sprinklers) to its Raccoon E-1 Mine (MSHA I.D. No. 15-18709) located in Floyd County, Kentucky. The petitioner requests a modification of the existing standard to permit the use of a single line of automatic sprinklers for its fire protection system on main and secondary belt conveyors in the Raccoon E-1 Mine. The petitioner proposes to use a single overhead pipe system with ½-inch orifice automatic sprinklers located on 10-foot centers, located to cover 50 feet of fire-resistant belt or 150 feet of non-fire resistant belt, with actuation temperatures between 200 and 230 degrees Fahrenheit, and with water pressure equal to or greater than 10 psi. The petitioner also proposes to have automatic sprinklers located not more than 10 feet apart so that the discharge of water will extend over the belt drive, belt take-up, electrical control, and gear reducing unit; conduct a test to Insure proper operation during the installation of each new system and during any subsequent repair or replacement of any critical part of the sprinkler system; conduct a functional test to ensure proper operation during subsequent repair or replacement of any critical part of the sprinkler system; and conduct a functional test on an annual basis. The petitioner asserts that the proposed alternative method would provide at least the same measure of protection as the existing standard.

3. Acme Brick Company

[Docket No. M-2004-003-M]

Acme Brick Company, 2825 Crockett, Fort Worth, Texas 76107 has filed a petition to modify the application of 30 CFR 56.9300 (Berms and guardrails) to its Perla Pit & Plant (MSHA I.D. No. 03-00132) located in Hot Springs County, Arkansas; Bennett Plant (MSHA I.D. No. 41-00243) located in Parker County, Texas; Bridgeport Plant (MSHA I.D. No. 41-00244) located in Wise County, Texas; Standard Pit (MSHA I.D. No. 41-00264) located in Bastrop County, Texas; Harbert, Hobson, Sewell (MSHA I.D. No. 41-00368) located in Denton County, Texas; Chew Mine (MSHA I.D. No. 41-03361) located in Austin County, Texas; Edmond Pit & Plant (MSHA I.D. No. 34-00110) located in Oklahoma County, Oklahoma; Tulsa #665 (MSHA I.D. No. 34-00108) located in Tulsa County, Oklahoma; McQueeny Pits & Plant (MSHA I.D. No. 41-00241) located in Guadalupe County, Texas; AWC, JEN, RSP, FRK, MLC, HLP Pits (MSHA I.D. No. 41-00305) located in Henderson County, Texas; Jamestown Pit (MSHA I.D. No. 16-00391) located in Bienville County, Louisiana; and Garrison Pit & Plant (MSHA I.D. No. 41-00242) located in Nacogdoches County, Texas. The petitioner proposes to use an alternative method of compliance for stockpiling mined clay in lieu of using berms or guardrails. The petitioner is presently using two scrapers to haul mined clay up onto the stockpile and a motor grader to level off the stockpile as the scrapers dump their belly pans. The petitioner is requesting a variance from the existing standard to permit continued use of this procedure for stockpiling mined clay.

The petitioner has listed specific procedures in this petition that will be followed when using its proposed alternative method. The petitioner asserts that application of the existing standard will result in a diminution of safety to the miners and that the proposed alternative will provide the same or greater degree of safety than the existing standard.

5. Acme Brick Company

[Docket No. M-2004-004-M]

Acme Brick Company, 2825 Crockett, Fort Worth, Texas 76107 has filed a petition to modify the application of 30 CFR 56.9301 (Dump site restraints) to its Perla Pit & Plant (MSHA I.D. No. 03-00132) located in Hot Springs County, Arkansas; Bennett Plant (MSHA I.D. No. 41-00243) located in Parker County, Texas; Bridgeport Plant (MSHA I.D. No. 41-00244) located in Wise County, Texas; Standard Pit (MSHA I.D. No. 41-00264) located in Bastrop County, Texas; Harbert, Hobson, Sewell (MSHA I.D. No. 41-00368) located in Denton County, Texas; Chew Mine (MSHA I.D. No. 41-03361) located in Austin County, Texas; Edmond Pit & Plant (MSHA I.D. No. 34-00110) located in Oklahoma County, Oklahoma; Tulsa #665 (MSHA I.D. No. 34-00108) located Tulsa County, Oklahoma; McQueeny Pits & Plant (MSHA I.D. No. 41-00241) located in Guadalupe County, Texas; AWC, JEN, RSP, FRK, MLC, HLP Pits (MSHA I.D. No. 41-00305) located in Henderson County, Texas; Jamestown Pit (MSHA I.D. No. 16-00391) located in Bienville County, Louisiana; and Garrison Pit & Plant (MSHA I.D. No. 41-00242) located in Nacogdoches County, Texas. The petitioner proposes to use an alternative method of compliance for stockpiling mined clay in lieu of using berms or guardrails. The petitioner is presently using two scrapers to haul mined clay up onto the stockpile and a motor grader to level off the stockpile as the scrapers dump their belly pans. The petitioner is requesting a variance from the existing standard to permit continued use of this procedure for stockpiling mined clay. The petitioner has listed specific procedures in this petition that will be followed when using its proposed alternative method. The petitioner asserts that application of the existing standard will result in a diminution of safety to the miners and that the proposed alternative will provide the same or greater degree of safety than the existing standard.

Request for Comments

Persons interested in these petitions are encouraged to submit comments via e-mail to comments@msha.gov, or on a computer disk along with an original hard copy to the Office of Standards, Regulations, and Variances, Mine Safety and Health Administration, 1100 Wilson Boulevard, room 2350, Arlington, Virginia 22209. All comments must be postmarked or received in that office on or before May 10, 2004. Copies of these petitions are available for inspection at that address.

Dated in Arlington, Virginia this 2nd day of April 2004.
Marvin W. Nichols, Jr.,
Director, Office of Standards, Regulations, and Variances.

[FR Doc. 04-8034 Filed 4-8-04; 8:45 am]

BILLING CODE 4510-43-P